DEPARTMENT OF COMMERCE

Foreign-Trade Zones Board

[Docket 14-2006]

Foreign-Trade Zone 177—Evansville, Indiana, Application for Subzone, Pfizer Inc., (Pharmaceutical Products), Terre Haute, IN

An application has been submitted to the Foreign-Trade Zones Board (the Board) by the Indiana Port Commission, grantee of FTZ 177, requesting special purpose subzone status for the manufacturing and warehousing facilities of Pfizer Inc (Pfizer), located in Terre Haute, Vigo County, Indiana. The application was submitted pursuant to the provisions of the Foreign-Trade Zones Act, as amended (19 U.S.C. 81a-81u), and the regulations of the Board (15 CFR part 400). It was formally filed on April 12, 2006.

The Pfizer facilities consist of three sites on 532 acres in Terre Haute, Indiana: Site 1 (27 bldgs. on 521 acres/386,932 sq. ft., about half of which is devoted to Exubera® manufacturing) located at 411 East Dallas Road; Site 2 (1 bldg. on 3 acres/61,952 sq. ft.) located at 1383 Aberdeen Street; and, Site 3 (1 bldg. on 8 acres/45,936 sq. ft.) located at 1650 East Industrial Drive. Site 1 is used to manufacture pharmaceutical products. Sites 2 and 3 are used for warehousing, storage and distribution activities. Pfizer employees approximately 340 employees at the sites.

Pfizer is requesting authority to manufacture the drug Exubera® (HTS 3004.31, duty-free) under zone procedures. Exubera® is an inhaled, powdered insulin formulation used in the treatment of diabetes. Initial zone savings will come from the elimination of inverted tariffs on the following components sourced from abroad used in the production of Exubera®: mannitol (HTS 2905.43, 4.6% duty rate) which is an inactive ingredient used in the manufacturing process and base aluminum foil (HTS 3921.90, 4.2% duty rate) which is used in packaging the final product in dosage form.

FTZ procedures would exempt Pfizer from Customs duty payments on the foreign components used in export production. Some 30 percent of the plant's initial shipments are to be exported. On its domestic sales, Pfizer would be able to choose the duty rates during Customs entry procedures that apply to the finished pharmaceutical product (duty-free) for the foreign inputs noted above. The request indicates that the savings generated from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade Zones Board, U.S. Department of Commerce, Franklin Court Building—Suite 4100W, 1099 14th St. NW., Washington, DC 20005: or

2. Submissions Via the U.S. Postal Service: Foreign-Trade-Zones Board, U.S. Department of Commerce, FCB - Suite 4100W, 1401 Constitution Ave. NW., Washington, DC 20230.

The closing period for their receipt is June 20, 2006. Rebuttal comments in response to material submitted during the foregoing period may be submitted during the subsequent 15-day period July 5, 2006.

A copy of the application and accompanying exhibits will be available for public inspection at the Office of the Foreign-Trade Zones Board's Executive Secretary at the first address listed above, and at the U.S. Department of Commerce Export Assistance Center, 11405 North Pennsylvania St, Suite 106, Carmel, IN 46032.

Dated: April 11, 2006.
Dennis Puccinelli,
Executive Secretary.

[FR Doc. E6-6020 Filed 4-20-06; 8:45 am]

BILLING CODE 3510-DS-S